DEPARTMENT OF THE INTERIOR

Bureau of Land Management

[LLES956000-L19100000-BK0000-LRCMM0E04162]

Eastern States: Filing of Plats of Survey

AGENCY: Bureau of Land Management, Interior.

ACTION: Notice of Filing of Plat of Survey; Alabama, Louisiana.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was requested by the Bureau of Land Management, Eastern States, Branch of Cadastral Survey.

The lands surveyed are:

Huntsville Meridian, Alabama

T. 18 S., R 7 E.

The plat of survey represents the remonumentation of the corner of Sections 22, 23, 26, and 27, of the Huntsville Meridian, in the State of Alabama, and was accepted July 29, 2012.

SUPPLEMENTARY INFORMATION: This survey was requested by the Bureau of Indian Affairs, Midwest Region.

Louisiana Meridian, Louisiana

T 5 N., R 1 W.

The plat of survey represents the survey of a parcel of land held in trust for the Jena Band of Choctaw Indians within Lot 6, Pine Heights Subdivision in Section 9, of the Louisiana Meridian, in the State of Louisiana, and was accepted September 17, 2012.

We will place copies of the plats we described in the open files. They will be available to the public as a matter of information.

If BLM receives a protest against these surveys, as shown on the plats, prior to the date of the official filing, we will stay the filing pending our consideration of the protest. We will not officially file the plats until the day after we have accepted or dismissed all protests and they have become final, including decisions on appeals.

Dated: October 5, 2012.
Dominica Van Koten,
Chief Cadastral Surveyor.

[FR Doc. 2012-25573 Filed 10-16-12; 8:45 am]

BILLING CODE 4310-GJ-P